DEPARTMENT OF ENERGY

Federal Energy Regulatory Commission

Combined Notice of Filings #1

Take notice that the Commission received the following electric rate filings:

Docket Numbers: ER10-3145-012; ER10-1728-012; ER10-1800-013; ER10-3116-012; ER10-3120-012; ER10-3128-012; ER10-3136-012; ER11-2036-012; ER11-2701-014; ER13-1544-009; ER15-1579-014; ER15-1582-015; ER15-1914-016; ER15-2679-012; ER15-2680-012; ER15-760-015; ER15-762-016; ER16-1255-013; ER16-1609-006; ER16-1738-010; ER16-1901-010; ER16-1955-010; ER16-1956-010; ER16-1973-010; ER16-2201-009; ER16-2224-009; ER16-2541-009; ER16-2578-010; ER16-468-010; ER16-474-011; ER16-890-011; ER16-930-006; ER17-1864-008; ER17-1871-008; ER17-1909-008; ER17-306-009; ER17-544-009; ER18-1667-003; ER18-2327-002; ER18-2492-004; ER19-1179-001; ER19-1473-001; ER19-1474-001; ER19-1597-001; ER19-846-003; ER19-847-003.

Applicants: AES Alamitos, LLC, AES Alamitos Energy, LLC, AES Energy Storage, LLC, AES ES Gilbert, LLC, AES ES Tait, LLC, AES Huntington Beach, L.L.C., AES Huntington Beach Energy, LLC, AES Integrated Energy, LLC, AES Laurel Mountain, LLC, AES Ohio Generation, LLC, AES Redondo Beach, L.L.C., Indianapolis Power & Light Company, Mountain View Power Partners, LLC, Mountain View Power Partners IV, LLC, The Dayton Power and Light Company, 65HK 8me LLC, 67RK 8me LLC, 87RL 8me LLC, Antelope Big Sky Ranch LLC, Antelope DSR 1, LLC, Antelope DSR 2, LLC, Antelope DSR 3, LLC, Antelope Expansion 2, LLC, Bayshore Solar A, LLC, Bayshore Solar B, LLC, Bayshore Solar C, LLC, Beacon Solar 1, LLC, Beacon Solar 3, LLC, Beacon Solar 4, LLC, Central Antelope Dry Ranch C LLC, FTS Master Tenant 1, LLC, FTS Master Tenant 2, LLC, ID Solar 1, LLC, Latigo Wind Park, LLC, North Lancaster Ranch LLC, Pioneer Wind Park I LLC, Riverhead Solar Farm, LLC, San Pablo Raceway, LLC, Sandstone Solar LLC, Sierra Solar Greenworks LLC, Solverde 1, LLC, Summer Solar LLC, Western Antelope Blue Sky Ranch A LLC, Western Antelope Blue Sky Ranch B LLC, Elevation Solar C LLC, Western Antelope Dry Ranch LLC.

Description: Supplement to June 25, 2019 Triennial Market Power Analysis of the AES MBR Affiliates for the Southwest Region.

Filed Date: 11/12/19.

Accession Number: 20191112-5303.

Comments Due: 5 p.m. ET 12/3/19.

Docket Numbers: ER19-2473-000.

Applicants: Basin Electric Power Cooperative, Inc.

Description: Amendment to July 26, 2019 Request for One-Time Waiver of certain requirements under Attachment O to MISO's Open Access Transmission, Energy and Operating Reserve Markets Tariff of Basin Electric Power Cooperative.

Filed Date: 11/6/19.

Accession Number: 20191106-5044.

Comments Due: 5 p.m. ET 11/27/19.

Docket Numbers: ER20-116-000.

Applicants: Evergy Metro, Inc.

Description: Report Filing: Supplemental Filing to a Notice of Succession, Vol. No. 4 to be effective N/A.

Filed Date: 11/12/19.

Accession Number: 20191112-5260.

Comments Due: 5 p.m. ET 12/3/19.

Docket Numbers: ER20-363-000.

Applicants: Arizona Public Service Company.

Description: § 205(d) Rate Filing: Service Agreement No. 373 to be effective 10/15/2019.

Filed Date: 11/12/19.

Accession Number: 20191112-5254.

Comments Due: 5 p.m. ET 12/3/19.

Docket Numbers: ER20-364-000.

Applicants: Arizona Public Service Company.

Description: § 205(d) Rate Filing: Rate Schedule No. 301 to be effective 12/23/2019.

Filed Date: 11/12/19.

Accession Number: 20191112-5258.

Comments Due: 5 p.m. ET 12/3/19.

Docket Numbers: ER20-365-000.

Applicants: PJM Interconnection, L.L.C.

Description: § 205(d) Rate Filing: Original WMPA SA No 5522; Queue No. AE1-075 to be effective 10/14/2019.

Filed Date: 11/13/19.

Accession Number: 20191113-5011.

Comments Due: 5 p.m. ET 12/4/19.

Take notice that the Commission received the following electric securities filings:

Docket Numbers: ES20-8-000.

Applicants: PJM Interconnection, L.L.C.

Description: Application Under Section 204 of the Federal Power Act for Authorization to Issue Securities of PJM Interconnection, L.L.C.

Filed Date: 11/12/19.

Accession Number: 20191112-5274.

Comments Due: 5 p.m. ET 12/3/19.

Docket Numbers: ES20-9-000.

Applicants: PJM Settlement, Inc.

Description: Application Under Section 204 of the Federal Power Act for Authorization to Issue Securities of PJM Settlement, Inc.

Filed Date: 11/12/19.

Accession Number: 20191112-5292.

Comments Due: 5 p.m. ET 12/3/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 13, 2019.
Nathaniel J. Davis, Sr.,
Deputy Secretary.

[FR Doc. 2019-25033 Filed 11-18-19; 8:45 am]

BILLING CODE 6717-01-P